DEPARTMENT OF THE INTERIOR

National Park Service

[NPS-WASO-NAGPRA-NPS0033640; PPWOCRADN0-PCU00RP14.R50000]

Notice of Inventory Completion: Brooklyn Children's Museum, Brooklyn, NY

AGENCY: National Park Service, Interior.

ACTION: Notice.

SUMMARY: The Brooklyn Children's Museum has completed an inventory of human remains in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Brooklyn Children's Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Brooklyn Children's Museum at the address in this notice by April 29, 2022.

FOR FURTHER INFORMATION CONTACT: Kate Mirand Calleri, Brooklyn Children's Museum, 145 Brooklyn Avenue, Brooklyn, NY 11213, telephone (718) 735-4400, email kcalleri@brooklynkids.org.

SUPPLEMENTARY INFORMATION: Notice is here given in accordance with the Native American Graves Protection and Repatriation Act (NAGPRA), 25 U.S.C. 3003, of the completion of an inventory of human remains under the control of the Brooklyn Children's Museum, Brooklyn, NY. The human remains were removed from “Southern NY,” most likely from within Bronx County, NY.

This notice is published as part of the National Park Service's administrative responsibilities under NAGPRA, 25 U.S.C. 3003(d)(3). The determinations in this notice are the sole responsibility of the museum, institution, or Federal agency that has control of the Native American human. The National Park Service is not responsible for the determinations in this notice.

Consultation

A detailed assessment of the human remains was made by the Brooklyn Children's Museum professional staff in consultation with representatives of the Delaware Nation, Oklahoma; Delaware Tribe of Indians; and the Stockbridge Munsee Community, Wisconsin (hereafter referred to as “The Tribes”).

History and Description of the Remains

In the early-to-mid 20th century, human remains representing, at minimum, three individuals were removed from an unknown location in the Bronx, NY. The three individuals, represented by three skulls, were donated to the Museum by Dr. Theodore Kazimiroff. No known individuals were identified. No associated funerary objects are present.

Brooklyn Children's Museum has made the geographic determination that these human remains were removed from Bronx County based on the “Southern New York” label in the original accessioning records, as well as from the extensive history of Kazimiroff's excavations within New York City limits, particularly in Bronx County, NY. Starting in the mid-1900s, records show that he excavated over 45,000 objects in New York City, the vast majority of which he claimed were Native American. Kazimiroff was the official Bronx County historian from 1953 to 1980, as well as President of Kings Bridge Historical Society and the founder of the Bronx Historical Society. In his writings, he documents an “Algonquin village” burial ground that he excavated in the Bronx. He also writes of his extensive excavations in the Bronx where the New York Botanical Gardens are today located. Kazimiroff's presence in Bronx County was so great that, from 1980 to 2011, the northern extension of Southern Boulevard between East Fordham Road and Allerton Avenue was named “Dr. Theodore Kazimiroff Boulevard.” To this day, he is still associated with Bronx County; Pelham Bay Park contains the “Kazimiroff Nature Trail.”

Determinations Made by the Brooklyn Children's Museum

Officials of the Brooklyn Children's Museum have determined that:

• Pursuant to 25 U.S.C. 3001(9), the human remains described in this notice represent the physical remains of three individuals of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Kate Mirand Calleri, Brooklyn Children's Museum, 145 Brooklyn Avenue, Brooklyn, NY 11213, telephone (718) 735-4400, email kcalleri@brooklynkids.org, by April 29, 2022. After that date, if no additional requestors have come forward, transfer of control of the human remains to The Tribes may proceed.

The Brooklyn Children Museum is responsible for notifying The Tribes that this notice has been published.

Dated: March 23, 2022.
Melanie O'Brien,
Manager, National NAGPRA Program.

[FR Doc. 2022-06665 Filed 3-29-22; 8:45 am]

BILLING CODE 4312-52-P